DEPARTMENT OF HEALTH AND HUMAN SERVICES

Centers for Disease Control and Prevention

[60Day-17-17AYG; Docket No. CDC-2017-0071]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection project titled “Effective Communication in Public Health Emergencies—Developing Community-Centered Tools for People with Special Health Care Needs.”

DATES: Written comments must be received on or before November 20, 2017.

ADDRESSES: You may submit comments, identified by Docket No. CDC-2017-0071 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Effective Communication in Public Health Emergencies—Developing Community-Centered Tools for People with Special Health Care Needs—New—Office of Public Health Preparedness and Response (OPHPR), Centers for Disease Control and Prevention (CDC).

Background and Brief Description

Individuals with access and mobility challenges, chronic illness, intellectual and developmental disabilities, and other communication difficulties require targeted messages before, during, and after disasters to ensure that they fully appreciate the risks to their health and safety and can take measures to avoid harm. Significant research has highlighted the unique information needs for at-risk populations in general, as well as more specific populations such as minority communities, limited-English proficiency communities, and persons with physical or communication disabilities. However, there has been minimal translation of this research into practical tools for sharing information, nor has the research been extended to the families of children and youth with special heath care needs.

Research has also shown that families and individuals are more likely to prepare for emergencies or follow health-related emergency directives when the information comes from a health care professional, particularly someone engaged in their care. There is very little information about the capacity of these trusted sources to reach at-risk individuals during disasters, or their coordination with government risk communication efforts.

Finally, although social media is used by at-risk populations on a daily basis, relatively little is known about how these populations use social media during disasters, as the majority of the studies analyzing channels used by at-risk populations were completed before the widespread use of social media in disasters.

This study will utilize a multi-tiered, mixed methods approach to data collection to study the communication needs of two target populations during disasters: Families with children and youth with special health care needs (CYSHCN); and individuals with Autism Spectrum Disorders, as well as families with children who have Autism Spectrum Disorders (ASD). Data collection will consist of surveys, as well as focus groups and interviews. For each population, we will collect data from (1) families (i.e., parents/caregivers of children and adolescents, as well as adolescents themselves) with special health care needs and ASD; and (2) the medical, social service and other providers who serve them. In addition, we will collect data from emergency-response agency representatives and experts in health information and communications technology to ask cross-cutting questions regarding the use of technology to communicate during disasters, and the perspectives and needs of individuals and agencies charged with leading disaster response efforts.

The data resulting from this study will be used to develop specific tools, protocols, and message templates that can be used for communicating during emergencies and disasters with families with CYSHCN and ASD.

CDC plans to begin the information collection one month after OMB approval and continue for twenty two months. Information in identifiable form will not be linked to interview responses. No CDC staff will participate in the collection of data or otherwise have contact with the participants. Drexel will store all the data, and CDC will only receive coded and aggregated data so it will not be possible to link responses with individual subjects. Data will be treated in a secure manner and will not be disclosed, unless otherwise compelled by law.

The total estimated annualized time burden to respondents is 419 hours.

This information collection request is a new request and approval is requested for 24 months.

Estimated Annualized Burden Hours
Type of respondent | Form name | Number of respondents | Number of responses per respondent | Average burden per response (in hours) | Total burden hours
Families/Caregivers (CYSHCN) | CYSHCN Family/Caregiver Survey | 150 | 1 | 15/60 | 38
Families/Caregivers (ASD) | ASD Family/Caregiver Survey | 200 | 1 | 15/60 | 50
Providers (CYSHCN) | CYSHCN Provider Survey | 250 | 1 | 15/60 | 63
Providers (ASD) | ASD Provider Survey | 150 | 1 | 15/60 | 38
Families/Caregivers (CYSHCN) | CYSHCN Family/Caregiver Interviews | 50 | 1 | 1 | 50
Families/Caregivers (ASD) | ASD Family/Caregiver Interviews | 30 | 1 | 1 | 30
Families/Caregivers (CYSHCN and ASD) | CYSHCN & ASD Family/Caregiver Evaluation Focus Group | 30 | 1 | 1.5 | 45
Providers (CYSHCN) | CYSHCN Provider Focus Group | 20 | 1 | 1.5 | 30
Providers (ASD) | ASD Provider Focus Group | 10 | 1 | 1.5 | 15
Emergency Response Organizations | Emergency Response Focus Group | 10 | 1 | 1.5 | 15
Health IT Professionals | Health IT Focus Group | 10 | 1 | 1.5 | 15
Providers | Provider Evaluation Focus Group | 20 | 1 | 1.5 | 30
Total |  |  |  |  | 419

Leroy A. Richardson,
Chief, Information Collection Review Office, Office of Scientific Integrity, Office of the Associate Director for Science, Office of the Director, Centers for Disease Control and Prevention.

[FR Doc. 2017-19959 Filed 9-19-17; 8:45 am]

BILLING CODE 4163-18-P